DEPARTMENT OF LABOR

Employment and Training Administration

[TA-W-60,512]

Showood, Inc.; Ecru, MS; Notice of Termination of Investigation

Pursuant to Section 221 of the Trade Act of 1974, as amended, an investigation was initiated on November 30, 2006 in response to a worker petition filed by a company official on behalf of workers of Showood, Inc., Ecru Mississippi.

The petitioner has requested that the petition be withdrawn. Consequently, the investigation has been terminated.

Signed at Washington, DC this 21st day of December 2006.
Richard Church,
Certifying Officer, Division of Trade Adjustment Assistance.

[FR Doc. E7-144 Filed 1-9-07; 8:45 am]

BILLING CODE 4510-30-P